DEPARTMENT OF HEALTH AND HUMAN SERVICES

Meeting of the Tick-Borne Disease Working Group

AGENCY: Office of HIV/AIDS and Infectious Disease Policy, Office of the Assistant Secretary for Health, Office of the Secretary, Department of Health and Human Services.

ACTION: Notice.

SUMMARY: The Department of Health and Human Services (HHS) announces the fourth “on-line” meeting of the Tick-Borne Disease Working Group (Working Group) on May 10, 2018, from 8:30 a.m. to 6:30 p.m., Eastern Time. For this fourth meeting, the Working Group will focus on the findings and basis for the draft reports from the work of the six Subcommittee Working Groups that were established on December 12, 2017. These subcommittees were established to assist the Working Group with the development of the report to Congress and the HHS Secretary as required by the 21st Century Cures Act. The subcommittees are:

1. Disease Vectors, Surveillance and Prevention (includes epidemiology of tick-borne diseases);

2. Pathogenesis, Transmission, and Treatment;

3. Testing and Diagnostics (including laboratory-based diagnoses and clinical-diagnoses);

4. Access to Care Services and Support to Patients;

5. Vaccine and Therapeutics; and

6. Other Tick-Borne Diseases and Co-infections.

DATES: May 10, 2018, from 8:30 a.m. to 6:30 p.m., Eastern Time.

ADDRESSES: This will be a virtual meeting that is held via webcast. Members of the public may attend the meeting via webcast. Instructions for attending this virtual meeting will be posted one week prior to the meeting at: https://www.hhs.gov/ash/advisory-committees/tickbornedisease/index.html.

FOR FURTHER INFORMATION CONTACT: James Berger, Office of HIV/AIDS and Infectious Disease Policy, Office of the Assistant Secretary for Health, Department of Health and Human Services; via email at tickbornedisease@hhs.gov or by phone at 202-795-7697.

SUPPLEMENTARY INFORMATION: The Working Group invites public comment on issues related to the Working Group's charge. Comments may be provided over the phone during the meeting or in writing. Persons who wish to provide comments by phone should review directions at https://www.hhs.gov/ash/advisory-committees/tickbornedisease/meetings/index.html before submitting a request via email at tickbornedisease@hhs.gov on or before May 3, 2018. Phone comments will be limited to three minutes each to accommodate as many speakers as possible. A total of 60 minutes will be allocated to public comments. If more requests are received than can be accommodated, speakers will be randomly selected. The nature of the comments will not be considered in making this selection. Public comments may also be provided in writing. Individuals who would like to provide written comment should review directions at https://www.hhs.gov/ash/advisory-committees/tickbornedisease/meetings/index.html before sending their comments to tickbornedisease@hhs.gov on or before May 3, 2018.

Background and Authority: The Tick-Borne Disease Working Group was established on August 10, 2017, in accordance with section 2062 of the 21st Century Cures Act, and the Federal Advisory Committee Act, 5 U.S.C. App., as amended, to provide expertise and review all HHS efforts related to tick-borne diseases to help ensure interagency coordination and minimize overlap, examine research priorities, and identify and address unmet needs. In addition, the Working Group will report to the Secretary and Congress on their findings and any recommendations for the federal response to tick-borne disease prevention, treatment, and research, and addressing gaps in those areas.

Dated: April 2, 2018.
James Berger,
Office of HIV/AIDS and Infectious Disease Policy, Alternate Designated Federal Officer, Tick-Borne Disease Working Group.

[FR Doc. 2018-07217 Filed 4-6-18; 8:45 am]

BILLING CODE 4150-28-P